DEPARTMENT OF TRANSPORTATION

Federal Motor Carrier Safety Administration

49 CFR Chapter III, Parts 325, 355, 356, 360, 365, 366, 367, 370, 371, 372, 373, 374, 375, 376, 377, 378, 379, 381, 383, 384, 385, 386, 387, 388, 389, 390, 391, 392, 393, 395, 396, 397, 398, 399 and Appendixes B, F, and G to Subchapter B

[RIN 2126-AA62]

Motor Carrier Safety Regulations; Miscellaneous Technical Amendments

AGENCY: Federal Motor Carrier Safety Administration (FMCSA), DOT.

ACTION: Final rule.

SUMMARY: This final rule makes technical corrections throughout 49 CFR, chapter III, subpart B, to various rules containing outdated references to organization structure, contacts, and addresses. The Federal Motor Carrier Safety Administration (FMCSA) is also updating authority citations, removing obsolete and unnecessary references, and making minor editorial corrections. These amendments are necessary due to the establishment of the FMCSA by the Motor Carrier Safety Improvement Act of 1999 and the termination of the Interstate Commerce Commission under the ICC Termination Act of 1995. This action updates the Federal motor carrier safety and economic regulations to reflect the formation of the FMCSA and its current processes and requirements, but does not make any substantive changes to the affected rules.

DATES: The effective date of this rule is October 1, 2001.

FOR FURTHER INFORMATION CONTACT: Janet Nunn, Regulatory Development Division (MC-PRR), 202-366-2797; or Mr. Michael J. Falk, Office of the Chief Counsel (MC-CC), 202-366-1384, Federal Motor Carrier Safety Administration, U.S. Department of Transportation, 400 Seventh Street, SW., Washington, DC 20590. Office hours are from 7:15 a.m. to 4:45 p.m., e.t., Monday through Friday, except Federal holidays.

SUPPLEMENTARY INFORMATION:

Electronic Access

Internet users may view and download this document from the U.S. DOT Docket Management System (DMS) website (http://dms.dot.gov). Please follow the instructions online for more information and help. You may also view and download this document from the Federal Register website at: http://www.nara.gov/fedreg and through the Government Printing Office (GPO) Access service (http://www.access.gpo.gov/nara).

Background

The Motor Carrier Safety Improvement Act of 1999 (MCSIA) (Public Law 106-159, 113 Stat. 1748, December 9, 1999) created the Federal Motor Carrier Safety Administration (FMCSA), the newest agency of the Department of Transportation (DOT), on January 1, 2000. The FMCSA carries out its responsibilities under authority delegated to its Administrator by the Secretary of Transportation (Secretary) pursuant to 49 CFR 1.73 (see 65 FR 220, January 4, 2000). Before FMCSA was created by the MCSIA, the Director of a new Office of Motor Carrier Safety (OMCS) in the DOT was delegated authority to regulate motor carrier activities under section 338 of the FY 2000 DOT and Related Agencies Appropriations Act (Public Law 106-69, October 9, 1999). Previously, the Federal Highway Administration (FHWA), through the Office of the Associate Administrator for Motor Carriers (OMC), was the agency responsible for developing and administering the Federal Motor Carrier Safety Regulations (FMCSRs). (See 64 FR 56270, October 19, 1999; 64 FR 58355 and 64 FR 58356, October 29, 1999).

Title 49 of the Code of Federal Regulations (CFR), chapter III, Subpart B, contain Federal motor carrier regulations for truck and bus safety. On January 1, 2000, the Secretary revised the heading for chapter III to read “Chapter III—Federal Motor Carrier Safety Administration, Department of Transportation.” Simultaneously, part 301 of chapter III (which referenced the FHWA organization) was removed and reserved for the FMCSA organizational structure (see 64 FR 72959, December 29, 1999).

Introduction

This final rule removes obsolete references and updates authority citations because Congress enacted the MCSIA, which created the FMCSA, and resulted in the transfer of all motor carrier functions and operations to the FMCSA. Because these amendments do not impose new requirements, notice and public comment are unnecessary.

Summary of Changes

The following is a summary of technical amendments made under this final rule. Minor editorial changes, for example, typographical and punctuation errors, and certain other minor adjustments to improve clarification of the rules are not discussed. All references to Federal Highway Administration, FHWA, OMC, OMCS, Office of Motor Carrier and Highway Safety, Interstate Commerce Commission, ICC, and Commission, are replaced with “Federal Motor Carrier Safety Administration” and “FMCSA.” All references to Associate Administrator for Motor Carriers are replaced with “Administrator”; Office of Motor Carrier Research and Standards is replaced with “Office of Bus and Truck Standards and Operations”; Office of Motor Carrier Information Analysis is replaced with “Office of Data Analysis and Information Systems”; and Licensing and Insurance Division is replaced with “Licensing Team” or “Insurance Compliance”.

All references to Regional Director of Motor Carriers are replaced with “Field Administrator,” “Division Administrator,” or “State Director”; Safety Technology and Information Management Division, HHS-10, and HHS-30 are replaced with “Office of Enforcement and Compliance (MC-ECH)”; HCC-10 Docket Room, Hazardous Materials Routing Dispute Resolution Docket are replaced with “Office of the Chief Counsel (MC-CC).”

We updated incorrect authority citations. We removed and reserved § 384.303 relating to State certification for FY1994 because it is no longer needed. Paragraph (c) of § 387.323 is updated to allow specifically for online insurance filings and cancellations by registered insurance and surety companies and financial institutions over the Internet. We are also removing, without replacement, paragraph (a)(4) of § 390.19, because it relates to past dates which are no longer relevant.

Rulemaking Analyses and Notices

This final rule makes only minor technical corrections to existing regulations. The rule replaces outdated language with terms more consistent with current statutory authority and codifies the transfer of regulatory responsibilities from the FHWA and the former OMCS within the DOT to the FMCSA. Substantive regulatory standards are not being changed in any way. Therefore, the FMCSA finds good cause to adopt the rule without prior notice or opportunity for public comment [5 U.S.C. 553(b)]. The rule imposes no new burdens and merely corrects or clarifies existing regulations. Therefore, good cause exists under 5 U.S.C. 553(d) to dispense with the 30-day delay in the effective date requirement and the FMCSA is making the rule effective upon publication in the Federal Register.

Executive Order 12866 (Regulatory Planning and Review) and DOT Regulatory Policies and Procedures

The FMCSA has determined that this action is not a significant regulatory action within the meaning of Executive Order 12866 or significant within the meaning of Department of Transportation regulatory policies and procedures. Since this rulemaking action makes only technical corrections to the current regulations, it is anticipated that the economic impact of this rulemaking will be minimal; therefore, a full regulatory evaluation is not required.

Regulatory Flexibility Act

In compliance with the Regulatory Flexibility Act (5 U.S.C. 601-612), the FMCSA has evaluated the effects of this rule on small entities (i.e., motor carriers). Based on the evaluation, and since the rule merely corrects obsolete references and places no new requirements on the regulated industry, the FMCSA certifies that this action will not have a significant economic impact on a substantial number of small entities.

Unfunded Mandates Reform Act of 1995

This rule does not impose a Federal mandate resulting in the expenditure by State, local, and tribal governments, in the aggregate, or by the private sector, of $100 million or more in any one year. (2 U.S.C. 1531 et seq.).

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 12630 (Taking of Private Property)

This rule will not effect a taking of private property or otherwise have taking implications under Executive Order 12630, Governmental Actions and Interference with Constitutionally Protected Property Rights.

Executive Order 13132 (Federalism)

This action has been analyzed in accordance with the principles and criteria contained in Executive Order 13132, dated August 4, 1999, and it has been determined this action does not have a substantial direct effect or sufficient federalism implications on States that would limit the policymaking discretion of the States. Nothing in this document directly preempts any State law or regulation.

Executive Order 12372 (Intergovernmental Review)

Catalog of Federal Domestic Assistance Program Number 20.217, Motor Carrier Safety. The regulations implementing Executive Order 12372 regarding intergovernmental consultation on Federal programs and activities do not apply to this program.

Paperwork Reduction Act

This action does not contain information collection requirements for purposes of the Paperwork Reduction Act of 1995, 44 U.S.C. 3501-3520.

National Environmental Policy Act

The agency has analyzed this action for the purpose of the National Environmental Policy Act of 1969 (42 U.S.C. 4321 et seq.) and has determined that this action would not have any effect on the quality of the environment.

Regulation Identification Number

A regulation identification number (RIN) is assigned to each regulatory action listed in the Unified Agenda of Federal Regulations. The Regulatory Information Service Center publishes the Unified Agenda in April and October of each year. The RIN number contained in the heading of this document can be used to cross reference this action with the Unified Agenda.

List of Subjects

49 CFR Part 325

Commercial motor carrier and vehicle, Noise control.

49 CFR Part 355

Highway safety, Intergovernmental relations, Motor carriers, Motor vehicle safety, Reporting and recordkeeping requirements.

49 CFR Part 356

Administrative practice and procedure, Routing, Motor carriers.

49 CFR Part 360

Administrative practice and procedure, Fees, Insurance, Motor carriers.

49 CFR Part 365

Administrative practice and procedure, Brokers, Buses, Freight forwarders, Motor carriers.

49 CFR Part 366

Administrative practice and procedure, Brokers, Freight forwarders, Motor carriers.

49 CFR Part 367

Commercial motor vehicle, Financial responsibility, Motor carriers, Motor vehicle safety, Registration, Reporting and recordkeeping requirements.

49 CFR Part 370

Administrative practice and procedure, Claims for property transported, Motor carriers.

49 CFR Part 371

Administrative practice and procedure, Broker, Motor carriers, Reporting and recordkeeping requirements.

49 CFR Part 372

Buses, Commercial zones, Freight forwarders, Motor carriers of property.

49 CFR Part 373

Administrative practice and procedure, Buses, Freight forwarders, Motor carriers, Reporting and recordkeeping requirements.

49 CFR Part 374

Baggage liability, Buses, Civil rights, Discrimination, Freight forwarders, Handicapped, Motor carriers.

49 CFR Part 375

Advertising, Arbitration, Consumer protection, Freight forwarders, Insurance, Motor carriers, Reporting and recordkeeping requirements.

49 CFR Part 376

Administrative practice and procedure, Motor carriers—equipment leasing, Reporting and recordkeeping requirements.

49 CFR Part 377

Administrative practice and procedure, Credit, Motor carriers.

49 CFR Part 378

Administrative practice and procedure, Claims, Freight forwarders, Investigations, Motor carriers.

49 CFR Part 379

Freight forwarders, Maritime carriers, Motor carriers, Moving of household goods, Reporting and recordkeeping requirements.

49 CFR Part 381

Motor carriers, Motor vehicle equipment, Waivers and exemptions, Pilot programs.

49 CFR Part 383

Commercial driver's license, Motor carriers.

49 CFR 384

Commercial driver's license, Motor carriers, Railroad—highway grade crossing.

49 CFR Part 385

Administrative practice and procedure, Highway safety, Motor carriers, Motor vehicle safety, Reporting and recordkeeping requirements.

49 CFR Part 386

Administrative practice and procedure, Hazardous materials transportation, Highway safety, Motor carriers, Motor vehicle safety, Penalties

49 CFR Part 387

Brokers, Freight forwarders, Insurance, Motor carriers, Surety bonds.

49 CFR Part 388

Administrative practice and procedure, Motor carriers.

49 CFR Part 389

Administrative practice and procedure, Motor carriers.

49 CFR 390

Highway safety, Motor carriers, Motor vehicle identification and marking, Reporting and recordkeeping.

49 CFR Part 391

Motor carriers'driver qualifications, Reporting and recordkeeping requirements.

49 CFR Part 392

Commercial motor vehicles, Motor carriers—driving practices.

49 CFR Part 393

Motor carriers—equipment and accessories, Motor vehicle safety.

49 CFR Part 395

Global positioning systems, Intelligent transportation systems, Motor carriers—driver rest and sleep requirements, Reporting and recordkeeping requirements.

49 CFR Part 396

Motor carriers, Motor vehicle maintenance, Reporting and recordkeeping requirements.

49 CFR Part 397

Hazardous materials transportation, Intergovernmental relations, Motor carriers, Reporting and recordkeeping requirements.

49 CFR Part 398

Motor carriers—migrant labor, Motor vehicle safety, Reporting and recordkeeping requirements.

49 CFR Part 399

Commercial motor vehicles, Motor carriers—occupational safety and health.

For the reasons set out in the preamble, title 49 of the Code of Federal Regulations, chapter III is amended as follows:

PART 325—COMPLIANCE WITH INTERSTATE MOTOR CARRIER NOISE EMISSION STANDARDS

1. Revise the authority citation for part 325 to read as follows:

Authority: 42 U.S.C. 4917; 49 U.S.C. 301; 49 CFR 1.73.

2. In part 325, revise all references to “Federal Highway Administration” to read “Federal Motor Carrier Safety Administration.”

3. Revise § 325.13 (d)(3) to read as follows:

§ 325.13 Inspection and examination of motor vehicles.

* * * * *

(d) * * *

(3) Motor carriers must complete the “Motor Carrier Certification of Action Taken” on Form MCS-141 in accordance with the terms prescribed thereon. Motor carriers must return Forms MCS-141 to the Division Office at the address indicated on Form MCS-141, within fifteen (15) days following the date of the vehicle inspection.

§ 325.93 [Amended]

4. Amend § 325.93 as follows:

a. Amend paragraph (b) by removing “Associate Administrator for Motor Carriers” and adding, in its place, “Administrator”.

b. Amend paragraph (b)(2)(i) by removing “Associate”.

PART 355—COMPATIBILITY OF STATE LAWS AND REGULATIONS AFFECTING INTERSTATE MOTOR CARRIER OPERATIONS

5. The authority citation for part 355 continues to read as follows:

Authority: 49 U.S.C. 504 and 31101 et seq.; 49 CFR 1.73

Appendix A to Part 355—[Amended]

6. Remove “FHWA” and add, in its place, “FMCSA.”

PART 356—MOTOR CARRIER ROUTING REGULATIONS

7. Revise the authority citation for part 356 to read as follows:

Authority: 5 U.S.C. 553, 49 U.S.C. 13301 and 13902; and 49 CFR 1.73.

§ 356.13 [Amended]

8. Amend § 356.13 by removing “FHWA” wherever it appears and adding “FMCSA.”

PART 360—FEES FOR MOTOR CARRIER REGISTRATION AND INSURANCE

9. Revise the authority citation for part 360 to read as follows:

Authority: 31 U.S.C. 9701, 49 U.S.C. 13908(c) and 14504(c)(2); and 49 CFR 1.73.

10. In part 360, revise all references to “Federal Highway Administration” to read “Federal Motor Carrier Safety Administration”, “FHWA” to read “FMCSA”, and “Office of Motor Carrier Information Analysis” to read “Office of Data Analysis and Information Systems.”

§ 360.1 [Amended]

11. Amend § 360.1 as follows:

a. Amend § 360.1(c) by removing “Electrostatic.”

b. Amend § 360.1(d)(2) by removing “Chief, Licensing and Insurance Division” and adding, in its place, “Office of Data Analysis and Information Systems (MC-RIS).”

12. Revise § 360.3(a)(2) to read as follows:

§ 360.3 Filing fees.

(a) * * *

(2) Billing account procedure. A written request must be submitted to the Office of Enforcement and Compliance (MC-ECI) to establish an insurance service fee account.

* * * * *

§ 360.5 [Amended]

13. Amend § 360.5(d)(4) by removing “FHWA-OMC” and adding, in its place, “FMCSA.”

PART 365—RULES GOVERNING APPLICATIONS FOR OPERATING AUTHORITY

14. Revise the authority citation for part 365 to read as follows:

Authority: 5 U.S.C. 553 and 559; 16 U.S.C. 1456; 49 U.S.C. 13101, 13301, 13901-13906, 14708, 31138, and 31144; and 49 CFR 1.73.

15. In part 365, revise all references to “Commission” to read “FMCSA”; “Commission's” to read “FMCSA's”; and “ICC” to read “FMCSA.”

16. Revise § 365.105 to read as follows:

§ 365.105 Starting the application process: Form OP-1.

(a) All applicants shall file the appropriate form in the OP-1 series. Form OP-1 for motor property carriers and brokers of general freight and household goods; Form OP-1(P) for motor passenger carriers; Form OP-1 (FF) for freight forwarders of household goods; Form OP-1(W) for water carriers and Form OP-1MX for Mexican motor property carriers. A separate filing fee in the amount specified at 49 CFR 360.3(f) is required for each type of transportation operation.

(b) Obtain the forms at a FMCSA Division Office in each State or at one of the FMCSA Service Centers. Addresses and phone numbers for the Division Offices and Service Centers can be found at: http://www.fmcsa.dot.gov/aboutus/fieldoffs. The forms can also be downloaded at: http://www.fmcsa.dot.gov/factsfigs/formspubs.

§ 365.107 [Amended]

17. Amend § 365.107(g) Note by removing “Regional Office” and adding, in its place, “Division Office”; and by removing “Regional”.

§ 365.109 [Amended]

18. Amend § 365.109(a)(4) by removing “An employee board of the Commission appointed under § 1011.6(g)” and adding, in its place, “FMCSA staff.”

§ 365.117 [Amended]

19. Amend § 365.117 by removing the words “Room 2229, Interstate Commerce Commission Building.”

§ 365.205 [Amended]

20. Amend § 365.205(d) by removing the words “of this part” and by removing the number “927-7600” and adding, in its place, “366-9805.”

§ 365.301 [Amended]

21. Amend § 365.301 by removing “49 CFR parts 1100 1105 and 1112 1117” and adding, in its place, “part 386 of this chapter.”

§ 365.413 [Amended]

22. Amend § 365.413 as follows:

a. Amend the introductory text of paragraph (a) by removing the words “(and not the transfer rules at 49 CFR parts 365, subpart D, 1182, 1183 and 1186)”.

b. Amend the introductory text of paragraph (b) by removing the words “Office of the Secretary, Applications and Fees Unit, Interstate Commerce Commission, Washington, DC 20423” and adding, in its place, “FMCSA, Office of Data Analysis and Information Systems (MC-RIS), Washington, DC 20590.”

c. Amend paragraph (b)(5) by removing the reference “49 CFR 1002.2(f)(11)” and adding, in its place, “§ 360.3(f) of this chapter.”

PART 366—DESIGNATION OF PROCESS AGENT

23. Revise the authority citation for part 366 to read as follows:

Authority: 49 U.S.C. 13303, 13304, and 14704; and 49 CFR 1.73.

§ 366.5 [Amended]

24. Amend § 366.5 by removing “Commission” and adding, in its place, “FMCSA'; and by removing “Interstate Commerce Commission” and adding, in its place, “Federal Motor Carrier Safety Administration.”

PART 367—STANDARDS FOR REGISTRATION WITH STATES

25. Revise the authority citation for part 367 to read as follows:

Authority: 49 U.S.C. 13301 and 14504; and 49 CFR 1.73.

Appendix A to Part 367—[Amended]

26. Amend Appendix A to part 367 by removing “FHWA” wherever it appears and adding, in its place, “FMCSA.”

PART 370—PRINCIPLES AND PRACTICES FOR THE INVESTIGATION AND VOLUNTARY DISPOSITION OF LOSS AND DAMAGE CLAIMS AND PROCESSING SALVAGE

27. Revise the authority citation for part 370 to read as follows:

Authority: 49 U.S.C. 13301 and 14706; and 49 CFR 1.73.

§ 370.7 [Amended]

28. Amend § 370.7(b) by removing “FHWA” and adding, in its place, “FMCSA.”

PART 371—BROKERS OF PROPERTY

29. Revise the authority citation for part 371 to read as follows:

Authority: 49 U.S.C. 13301, 13501, and 14122; and 49 CFR 1.73.

§ 371.10 [Amended]

30. Amend § 371.10 by removing “FHWA” and adding, in its place, “FMCSA.”

PART 372—EXEMPTIONS, COMMERCIAL ZONES, AND TERMINAL AREAS

31. Revise the authority citation for part 372 to read as follows:

Authority: 49 U.S.C. 13504 and 13506; and 49 CFR 1.73.

§ 372.107 [Amended]

32. Amend § 372.107 as follows:

a. Amend paragraphs (a) and (b) by removing “10526(a)(5)” and adding, in its place “13506(a)(5).”

b. Amend paragraph (e) by removing “10521” and adding, in its place, “13501”; and by removing “Commission's” and adding, in its place, “FMCSA's.”

§ 372.109 [Amended]

33. Amend § 372.109 in the introductory paragraph by removing “subchapter II, chapter 105, subtitle IV” and adding “subtitle IV, part B, chapter 135”; and paragraph (b) by removing “10526(a)(5)” and adding “13506(a)(5).”

§ 372.231 [Amended]

34. Amend § 372.231 by removing “of the Interstate Commerce Act.”

PART 373—RECEIPTS AND BILLS

35. Revise the authority citation for part 373 to read as follows:

Authority: 49 U.S.C. 13301 and 14706; and 49 CFR 1.73.

PART 374—PASSENGER CARRIER REGULATIONS

36. Revise the authority citation for part 374 to read as follows:

Authority: 49 U.S.C. 13301 and 14101; and 49 CFR 1.73.

§ 374.303 [Amended]

37. Amend § 374.303(g) by removing ”, notwithstanding 49 CFR 1312.1(b)(33),.”

§ 374.311 [Amended]

38. Amend § 374.311(b) by removing “FHWA's Regional” and adding “FMCSA's Division.”

§ 374.315 [Amended]

39. Amend § 374.315 by removing the number “11201” and adding the number “12101.”

§ 374.319 [Amended]

40. Amend § 374.319, in paragraphs (a) and (b), by removing “Federal Highway Administration” and adding, in its place, “Federal Motor Carrier Safety Administration.”

§ 374.403 [Amended]

41. Amend § 374.403(b) by removing “FHWA” and adding, in its place, “FMCSA.”

PART 375—TRANSPORTATION OF HOUSEHOLD GOODS IN INTERSTATE OR FOREIGN COMMERCE

42. The authority citation for part 375 continues to read as follows:

Authority: 5 U.S.C. 553; 49 U.S.C. 13301 and 14104; and 49 CFR 1.73.

43. In part 375, revise all references to “Commission” to read FMCSA”; “Interstate Commerce Commission” to read “Federal Motor Carrier Safety Administration”; and “ICC” to read “FMCSA.”

§ 375.1 [Amended]

44. Amend § 375.1(b)(8) by removing the number “10102” and adding, in its place, “13102.”

§ 375.2 [Amended]

45. Amend § 375.2(b)(1) and (b)(2) by removing “Compliance and Enforcement” and adding “Enforcement and Compliance.”

§ 375.5 [Amended]

46. Amend § 375.5 in the introductory text of paragraph (a) by removing “mimunum” and adding “minimum.”

§ 375.17 [Amended]

47. Amend § 375.17(b) by removing “I.C.C.” and adding, in its place, FMCSA.”

§ 375.18 [Amended]

48. Amend § 375.18 as follows:

a. Amend paragraphs (a) and (b) by removing Compliance and Enforcement and adding Enforcement and Compliance.

b. Amend paragraphs (a) and (b) by removing the number “20423-0001” and adding “20590”.

c. Amend paragraph (b) by removing “ICC” and adding, in its place, “USDOT or ICCMC”; and removing “Year Ended December 31, 19—”, in the heading, and adding “YEAR ENDED DECEMBER 31, 20—.”

d. Amend paragraphs (b) and (c) by removing “ICC Annual Report” and adding, in its place, “Annual Performance Report.”

PART 376—LEASE AND INTERCHANGE OF VEHICLES

49. Revise the authority citation for part 376 to read as follows:

Authority: 49 U.S.C. 13301 and 14102; and 49 CFR 1.73.

50. In part 376, revise all references to “FHWA” to read “FMCSA.”

PART 377—PAYMENT OF TRANSPORTATION CHARGES

51. Revise the authority citation for part 377 to read as follows:

Authority: 49 U.S.C. 13101, 13301, 13701, 13702, 13706, 13707, and 14101; and 49 CFR 1.73.

§ 377.201 [Amended]

52. Amend § 377.201(a) by removing “Federal Highway Administration” and adding, in its place, “Federal Motor Carrier Safety Administration.”

§ 377.215 [Amended]

53. Amend § 377.215 as follows:

a. Amend paragraph (c)(2) by removing “of.”

b. Amend paragraph (c)(3)(iii) by removing “Commission” and adding, in its place, “FMCSA.”

PART 378—PROCEDURES GOVERNING THE PROCESSING, INVESTIGATION, AND DISPOSITION OF OVERCHARGE, DUPLICATE PAYMENT, OR OVERCOLLECTION CLAIMS

54. Revise the authority citation for part 378 to read as follows:

Authority: 49 U.S.C. 13321, 14101, 14704 and 14705; and 49 CFR 1.73.

PART 379—PRESERVATION OF RECORDS

55. Revise the authority citation for part 379 to read as follows:

Authority: 49 U.S.C. 13301, 14122 and 14123; and 49 CFR 1.73.

Appendix A to Part 379—[Amended]

56. Amend Appendix A to part 379, in Item K, by removing “Federal Highway Administration” and adding, in its place, “Federal Motor Carrier Safety Administration.”

PART 381—WAIVERS, EXEMPTIONS, AND PILOT PROGRAMS

57. Revise the authority citation for part 381 to read as follows:

Authority: 49 U.S.C. 31136(e) and 31315; and 49 CFR 1.73.

58. In part 381:

a. Revise all references to “FHWA” to read “FMCSA.”

b. Revise “Federal Highway Administration” to read “Federal Motor Carrier Safety Administration”;

c. Revise “Federal Highway Administrator” to read “Federal Motor Carrier Safety Administrator”;

d. Revise “Office of Motor Carrier and Highway Safety” to read “Federal Motor Carrier Safety Administration”; and

e. Revise “Office of Motor Carrier Research and Standards” to read “Office of Bus and Truck Standards and Operations”.

§ 381.200 [Amended]

59. Amend § 381.200(d)(3) by removing “385.21” and adding “390.19.”

§ 381.210 [Amended]

60. Amend § 381.210(c)(4) by removing “level a safety” and adding “level of safety.”

PART 383—COMMERCIAL DRIVER'S LICENSE STANDARDS; REQUIREMENTS AND PENALTIES

61. Revise the authority citation for part 383 to read as follows:

Authority: 49 U.S.C. 31136, 31301 et seq., and 31502; and 49 CFR 1.73.

§ 383.5 [Amended]

62. Amend § 383.5 as follows:

a. Remove the words “Federal Highway” and add, in its place, “Federal Motor Carrier Safety” in the definition of Administrator.

b. Remove “FHWA” and add, in its place, “FMCSA” in the definitions of Commercial driver's license information system (CDLIS) and Disqualification.

§ 383.53 [Amended]

63. Amend § 383.53 as follows:

a. Amend paragraph (b)(1) by removing “$1,000 nor more than $2,500” and adding “$1,100 nor more than $2,750.”

b. Amend paragraph (b)(2) by removing “$2,500 nor more than $10,000” and adding “$2,750 nor more than $11,000.”

64. Revise § 383.72 to read as follows:

§ 383.72 Implied consent to alcohol testing.

Any person who holds a CDL is considered to have consented to such testing as is required by any State or jurisdiction in the enforcement of §§ 383.51(b)(2)(i) and 392.5(a)(2) of this chapter. Consent is implied by driving a commercial motor vehicle.

65. Amend § 383.73 as follows:

a. Amend paragraph (a)(3)(iii), introductory text, by removing the words ”, when it is determined to be operational by the National Highway Traffic Safety Administrator.”

b. Revise paragraph (a)(4) to read as follows:

§ 383.73 State procedures.

(a) * * *

(4) Require the driver applicant to surrender his/her driver's license issued by another State, if he/she has moved from another State.

* * * * *

§ 383.75 [Amended]

66. Amend § 383.75(a)(2)(i) by removing “FHWA” and adding, in its place, “FMCSA.”

PART 384—STATE COMPLIANCE WITH COMMERCIAL DRIVER'S LICENSE PROGRAM

67-68. Revise the authority citation for part 384 to read as follows:

Authority: 49 U.S.C. 31136, 31301 et seq., and 31502; and 49 CFR 1.73.

69. In part 384, revise all references to “FHWA” to read “FMCSA” and “Federal Highway” to read “Federal Motor Carrier Safety.”

§ 384.303 [Removed and Reserved]

70. Remove and reserve § 384.303.

§ 384.305 [Amended]

71. Amend § 384.305(a) by removing “Office of Motor Carriers.”

PART 385—SAFETY FITNESS PROCEDURES

72. The authority citation for part 385 continues to read as follows:

Authority: 49 U.S.C. 113, 504, 521(b)(5)(A) and (b)(8), 5113, 31136, 31144, 31502; and 49 CFR 1.73.

73. In part 385, revise all references to “FHWA” and “FHWA's” to read “FMCSA” and all references to “Federal Highway Administration” to read “Federal Motor Carrier Safety Administration.”

74. Amend § 385.19 as follows:

a. Amend paragraph (b) by removing “DOT” and adding “USDOT'; and by removing “ICC” and adding, in its place, “ICCMC'.

b. Revise paragraph (c) to read as follows:

§ 385.19 Safety fitness information.

* * * * *

(c) Requests should be addressed to the Office of Data Analysis and Information Systems (MC RIS), Federal Motor Carrier Safety Safety Administration, 400 Seventh Street, SW., Washington, DC 20590. The information can also be found at the SAFER website: http://www.safersys.org.

* * * * *

Appendix B to Part 385—[Amended]

75. Amend paragraph (d), introductory text, by removing “Office of Motor Carriers.”

PART 386—RULES OF PRACTICE FOR MOTOR CARRIER, BROKER, FREIGHT FORWARDER, AND HAZARDOUS MATERIALS PROCEEDINGS

76. The authority citation for part 386 continues to read as follows:

Authority: 49 U.S.C. 113, chapters 5, 51, 59, 131-141, 145-149, 311, 313, and 315; sec. 206, Pub. L. 106-159, 113 Stat. 1763; and 49 CFR 1.45 and 1.73.

§ 386.37 [Amended]

77. Amend § 386.37 by removing the word “fequency” and adding, in its place, “frequency.”

78. Revise the introductory text of § 386.54(b) to read as follows:

§ 386.54 Administrative law judge.

* * * * *

(b) Power and duties. The administrative law judge has power to take any action and to make all needful rules and regulations to govern the conduct of the proceedings to ensure a fair and impartial hearing, and to avoid delay in the disposition of the proceedings. The powers of the administrative law judge include the following:

* * * * *

PART 387—MINIMUM LEVELS OF FINANCIAL RESPONSIBILITY FOR MOTOR CARRIERS

79. Remove the authority citations from part 387, subparts C and D, and revise the authority citation for part 387 to read as follows:

Authority: 49 U.S.C. 13101, 13301, 13906, 14701, 31138, and 31139; and 49 CFR 1.73.

80. In part 387:

a. Revise all references to “Federal Highway Administration” to read “Federal Motor Carrier Safety Administration”;

b. Revise “FHWA” to read “FMCSA”;

c. Revise “FHWA's” to read “FMCSA's”;

d. Revise “Interstate Commerce Commission” to read “Federal Motor Carrier Safety Administration”;

e. Revise “Commission” to read “FMCSA”;

f. Revise “Commission's” to read “FMCSA's”; and

g. Revise “ICC” to read “FMCSA” and “ICC's” to read “FMCSA's.”

§ 387.7 [Amended]

81. Amend § 387.7(d)(3) as follows:

a. Remove “§ 1043.5 of this title” and add, in its place, “§ 387.309.”

b. Remove “part 385 of this title” and add, in its place, “part 385 of this chapter.”

§ 387.15 [Amended]

82. Amend § 387.15 as follows:

a. Amend Illustration I and Illustration II by removing the words “or the ICC.”

b. Amend Illustration I by removing the following: “and the Interstate Commerce Commission (ICC).”

c. Amend Illustration II by removing “49 U.S.C. 10927 note” and adding, in its place, “49 U.S.C. 13906.”

d. Amend Illustration II by removing the following:

“(3) Rules and Regulations of the Interstate Commerce Commission (ICC).”

§ 387.17 [Amended]

83. Amend § 387.17 as follows:

a. Remove “$10,000” and add, in its place, “$11,000.”

b. Remove “Associate.”

c. Remove “for Motor Carriers.”

§ 387.41 [Amended]

84. Amend § 387.41 as follows:

a. Remove “$10,000” and add, in its place, “$11,000.”

b. Remove “Associate.”

c. Remove “for Motor Carriers.”

§ 387.301 [Amended]

85. Amend § 387.301(a)(1), (b), and (c) as follows:

a. Remove “subchapter II, chapter 105, subtitle IV” and add, in its place, “Subtitle IV, part B, chapter 135”.

b. Remove “10927, subchapter II, chapter 109, subtitle IV” and add, in its place, the number “13906.”

§ 387.307 [Amended]

86. Amend § 387.307(c) by removing “Interstate Commerce Act” and adding, in its place, “ICC Termination Act.”

§ 387.311 [Amended]

87. Amend § 387.311(c) by removing the words “or the Department of Transportation.”

§ 387.313 [Amended]

88. Amend § 387.313 as follows:

a. Amend paragraph (a)(3) by removing “§ 1043.2(c)” and adding, in its place, “§ 387.303(c).”

b. Amend paragraph (a)(5) by removing “§ 1043.2(b)(1)” and adding, in its place, “§ 387.303(b)(1).”

c. Remove, at the end of § 387.313, the following:

“Cross Reference: For forms prescribed, see § 1003(b) of this chapter.”

§ 387.321 [Amended]

89. Amend § 387.321 by removing the words “this Commission” and adding, in its place, the words “the FMCSA.”

90. Revise § 387.323(c), introductory text, to read as follows:

§ 387.323 Electronic filing of surety bonds, trust fund agreements, certificates of insurance and cancellations.

* * * * *

(c) Filings may be transmitted online via the Internet at: http://fhwa-li.volpe.dot.gov or via American Standard Code Information Interchange (ASCII). All ASCII transmission must be in fixed format, i.e., all records must have the same number of fields and same length. The record layouts for ASCII electronic transactions are described in the following table:

* * * * *

PART 388—COOPERATIVE AGREEMENTS WITH STATES

91. Revise the authority citation for part 388 to read as follows:

Authority: 49 U.S.C. 113 and 502; 49 CFR 1.73.

92. In part 388, revise all references to “Federal Highway Administration” to read “Federal Motor Carrier Safety Administration”; “Regional Director of Motor Carrier Safety” to read “Division Administrator or State Director.”

§ 388.1 [Amended]

93. Amend § 388.1 by removing the number “20591” and adding the number “20590.”

§ 388.5 [Amended]

94. Amend § 388.5(a) by removing “Office of Motor Carriers”.

PART 389—RULEMAKING PROCEDURES—FEDERAL MOTOR CARRIER SAFETY REGULATIONS

95. Revise the authority citation for part 389 to read as follows:

Authority: 49 U.S.C. 113, 501 et seq., 31101 et seq., 31138, 31139, 31301 et seq., and 31502; 42 U.S.C. 4917; and 49 CFR 1.73.

96. In part 389, revise all references to “Federal Highway” to read “Federal Motor Carrier Safety.”

PART 390—FEDERAL MOTOR CARRIER SAFETY REGULATIONS; GENERAL

97. The authority citation for part 390 continues to read as follows:

Authority: 49 U.S.C. 13301, 13902, 31132, 31133, 31136, 31502, 31504; sec. 204, Pub. L. 104-88, 109 Stat 803, 941 (49 U.S.C. 701 note); and 49 CFR 1.73.

98. In part 390:

a. Revise all references to “Regional Director of Motor Carriers” to read “FMCSA Field Administrator”;

b. Revise “Federal Highway” to read “Federal Motor Carrier Safety”; and

c. Revise “FHWA” to read “FMCSA.”

§ 390.5 [Amended]

99. Amend § 390.5 as follows:

a. Remove “region” and add, in its place, “geographical area” in paragraph (1), in the definition of Emergency.

b. Remove the words “by the FHWA in 49 CFR part 372, subpart B. The descriptions are printed”;

c. Remove “§ 391.2(d)” and add, in its place, “§ 391.62” in the definition of Exempt intracity zone.

d. Remove the words “Interstate Commerce Commission (ICC) under 49 U.S.C. 10526” and add, in its place, “Federal Motor Carrier Safety Administration (FMCSA) under 49 U.S.C. 13506” in the definition of Exempt motor carrier.

e. Remove “Director of the Office of Motor Carriers” and add, in its place, “Field Administrator”; and, remove “region” and add “area” in the definition of Regional Director of Motor Carriers.

§ 390.16 [Amended]

100. Remove “§” from “§§ 390.16 [Reserved]”

§ 390.19 [Amended]

100a. Remove paragraph (a)(4) of § 390.19.

PART 391—QUALIFICATIONS OF DRIVERS

101. The authority citation for part 391 continues to read as follows:

Authority: 49 U.S.C. 322, 504, 31133, 31136, and 31502; 49 CFR 1.73.

102. In part 391:

a. Revise all references to “FHWA” to read “FMCSA”; and

b. Revise “Federal Highway Administration” to read “Federal Motor Carrier Safety Administration”.

§ 391.31 [Amended]

103. Amend § 391.31(f) by removing “19” and adding “20.”

§ 391.47 [Amended]

104. Amend § 391.47, paragraphs (c), (d)(1), (d)(2) and (f) by removing “Office of Motor Carrier Research and Standards” and adding, in its place, “Office of Bus and Truck Standards and Operations (MC PSD).”

§ 391.51 [Amended]

105. Amend § 391.51(b)(8) by removing “Regional Director of Motor Carriers” and adding, in its place, “Field Administrator, Division Administrator, or State Director.”

PART 392—DRIVING OF COMMERCIAL MOTOR VEHICLES

106. Revise the authority citation for part 392 to read as follows:

Authority: 49 U.S.C. 31136 and 31502; and 49 CFR 1.73.

§ 392.2 [Amended]

107. Amend § 392.2 by removing “Federal Highway Administration” and adding in its place, “Federal Motor Carrier Safety Administration.”

§ 392.5 [Amended]

108. Amend § 392.5(d)(2) and (e) as follows:

a. Remove “Regional Director of Motor Carriers for the Region” and add, in its place, “Division Administrator or State Director for the geographical area”;

b. Remove “Regional Director of Motor Carriers” and add, in its place, “Division Administrator or State Director”; and

c. Remove “Associate.”

§ 392.7 [Amended]

109. Amend § 392.7 by removing “thereof shall have satisfied himself/herself” and adding, in its place, “is satisfied.”

PART 393—PARTS AND ACCESSORIES NECESSARY FOR SAFE OPERATION

110. The authority citation for part 393 continues to read as follows:

Authority: Sec. 1041(b) of Public Law 102-240, 105 Stat. 1914; 49 U.S.C. 31136 and 31502; 49 CFR 1.73.

111. In part 393, revise all references to “Federal Highway Administration” to read “Federal Motor Carrier Safety Administration” and “FHWA” to read “FMCSA.”

§ 393.47 [Amended]

112. Amend § 393.47 by removing “lining n every” and adding, in its place, “lining in every.”

§ 393.80 [Amended]

113. Amend § 393.80(b)(3) by removing “(49 U.S.C. 3102; 49 CFR 1.48).

PART 395—HOURS OF SERVICE OF DRIVERS

114. Revise the authority citation for part 395 to read as follows:

Authority: 49 U.S.C. 31133, 31136, and 31502; sec. 345 of Pub. L. 104-59, 109 Stat. 568, 613; and 49 CFR 1.73.

115. In part 395, revise all references to “Federal Highway Administration” to read “Federal Motor Carrier Safety Administration” and “FHWA” to read “FMCSA.”

§ 395.3 [Amended]

116. Amend § 395.3(a), introductory text, by removing “395.1(i)” and adding, in its place, “395.1(h).”

§ 395.13 [Amended]

117. Amend § 395.13(c)(2) by removing “Regional Director of Motor Carriers” and adding, in its place, “Division Administrator or State Director.”

PART 396—INSPECTION, REPAIR, AND MAINTENANCE

118. Revise the authority citation for part 396 to read as follows:

Authority: 49 U.S.C. 31133, 31136, and 31502; and 49 CFR 1.73.

119. In part 396, revise all references to “FHWA” to read “FMCSA.”

PART 397—TRANSPORTATION OF HAZARDOUS MATERIALS; DRIVING AND PARKING RULES

120. Revise the authority citation for part 397 to read as follows:

Authority: 49 U.S.C. 322; 49 CFR 1.73. Subpart A also issued under 49 U.S.C. 31136 and 31502; Subparts C, D, and E also issued under 49 U.S.C. 5112 and 5125.

121. In part 397, revise all references to “Federal Highway” to read “Federal Motor Carrier Safety” and “FHWA” to read “FMCSA.”

§ 397.71 [Amended]

122. Amend § 397.71, in footnote 1, by removing “Safety Technology and Information Management Division, HHS-10” and adding, in its place, “Office of Enforcement and Compliance (MC-ECH).”

§ 397.73 [Amended]

123. Amend § 397.73(b) by removing “HHS-30” and adding, in its place, “Office of Enforcement and Compliance (MC-ECH).”

§ 397.75 [Amended]

124. Amend § 397.75(b)(1) by removing “HCC-10, Docket Room, Hazardous Materials Routing Dispute Resolution Docket” and adding, in its place, “Office of the Chief Counsel (MC-CC).”

125. Amend § 397.101 by revising the introductory text of paragraph (g) to read as follows:

§ 397.101 Requirements for motor carriers and drivers.

* * * * *

(g) Except for packages shipped in compliance with the physical security requirements of the U.S. Nuclear Regulatory Commission in 10 CFR part 73, each carrier who accepts for transportation a highway route controlled quantity of Class 7 (radioactive) material (see 49 CFR 173.401(l)), must, within 90 days following the acceptance of the package, file the following information concerning the transportation of each such package with the Office of Enforcement and Compliance (MC-ECH), Federal Motor Carrier Safety Administration, 400 Seventh Street, SW., Washington, DC 20590-0001:

* * * * *

126. Revise § 397.103(c) and (d) to read as follows:

§ 397.103 Requirements for State routing designations.

* * * * *

(c) A State-designated route is effective when—

(1) The State gives written notice by certified mail, return receipt requested, to the Office of Enforcement and Compliance (MC-ECH), Attn: National Hazardous Materials Route Registry, 400 Seventh Street, SW., Washington, DC 20590.

(2) Receipt thereof is acknowledged in writing by the FMCSA.

(d) A list of State-designated preferred routes and a copy of the “Guidelines for Selecting Preferred Highway Routes for Highway Route Controlled Quantity Shipments of Radioactive Materials” are available upon request to Office of Enforcement and Compliance (MC-ECH), 400 Seventh Street, SW., Washington, DC 20590.

§ 397.205 [Amended]

127. Amend § 397.205(b)(1) by removing “HCC-10 Docket Room,” and adding, in its place, “Office of the Chief Counsel (MC-CC).”

§ 397.213 [Amended]

128. Amend § 397.213(b)(1) by removing “HCC-10 Docket Room” and adding, in its place, “Office of the Chief Counsel (MC-CC).”

PART 398—TRANSPORTATION OF MIGRANT WORKERS

129. Revise the authority citation for part 398 to read as follows:

Authority: 49 U.S.C. 31501 and 31502; and 49 CFR 1.73.

130. In part 398, revise all references to “Federal Highway Administration” to read “Federal Motor Carrier Safety Administration.”

PART 399—EMPLOYEE SAFETY AND HEALTH STANDARDS

131. Revise the authority citation for part 399 to read as follows:

Authority: 49 U.S.C. 31502; and 49 CFR 1.73.

132. Amend Appendix B as follows:

a. Remove all references to “Federal Highway Administration” and add, in its place “Federal Motor Carrier Safety Administration”;

b. Remove all references to “FHWA” and add, in its place, “FMCSA”;

c. Remove all references to “Office of Motor Carriers” and add, in its place, “Federal Motor Carrier Safety Administration”;

d. Remove all references to “Associate Administrator for Motor Carriers” and add, in its place, “Administrator”; and

e. Revise paragraph 3:

f. Revise the authority citation following paragraph 4.

The revisions read as follows:

APPENDIX B TO SUBCHAPTER B—SPECIAL AGENTS

* * * * *

3. Definition of Special Agent. Special agents are Federal Motor Carrier Safety Administration (FMCSA) employees who are identified by credentials issued by the FMCSA authorizing them to enforce 42 U.S.C. 4917 and to exercise relevant authority of the Secretary of Transportation under 49 U.S.C. 113, chapters 5, 51, 57, 131-149, 311, 313, and 315 and other statutes, as delegated to FMCSA by 49 CFR 1.73, and under regulations issued on the authority of those statutes. Special agents are authorized to inspect and copy records and to inspect and examine land, buildings, and equipment in the manner and to the extent provided by law.

4. * * *

“(49 U.S.C. 504, 5121, 14122, 31502 and 31503; and 49 CFR 1.73).”

APPENDIX F TO SUBCHAPTER B—COMMERCIAL ZONES

133. Amend Appendix F as follows:

a. Revise the note at the beginning of appendix F to read as follows:

“Note: The text of these definitions is identical to the text of 49 CFR Part 1048, revised as of October 1, 1975, which is no longer in print.”

b. Amend Sec. 3 St. Louis, Mo.-East St. Louis, Ill. by removing “easternboundaries” and adding, in its place, “eastern boundaries.”

c. Amend Sec. 4 Washington, DC, in the second paragraph, by removing “extendingnortheasterly” and adding, in its place, “extending northeasterly”; and removing “thencenortherly” and adding, in its place, “thence northerly.”

Appendix G to Subchapter B—Minimum Periodic Inspection Standards

134. Amend Appendix G to Subchapter B by revising all references to “FHWA” to read “FMCSA.”

Issued on: September 25, 2001.
Stephen E. Barber,
Associate Administrator for Enforcement and Program Delivery.

[FR Doc. 01-24432 Filed 9-28-01; 8:45 am]

BILLING CODE 4910-EX-P